DEPARTMENT OF THE INTERIOR

National Park Service

Notice of Inventory Completion: Texarkana Museums System, Texarkana, TX

AGENCY: National Park Service, Interior.

ACTION: Notice.

Notice is here given in accordance with the Native American Graves Protection and Repatriation Act (NAGPRA), 25 U.S.C. 3003, of the completion of an inventory of human remains and associated funerary objects in the possession of the Texarkana Museums System (formerly the Texarkana Historical Museum), Texarkana, TX. The human remains and associated funerary objects were removed from Bowie County, TX.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Texarkana Museums System professional staff in consultation with representatives of the Caddo Nation of Oklahoma.

In 1978, human remains representing a minimum of three individuals were removed from the Cabe Mounds in Bowie County, TX. The human remains and associated artifacts were acquired by the museum through its then-director, Katy Caver, as part of an archeological survey of the region. No known individuals were identified. The 141 associated funerary objects are 3 pieces of pottery; 13 pottery fragments; 2 beads; 2 projectile points; 70 lots of debitage; and 51 pre-form tools and fragments.

Two of the three individuals removed from the Cabe Mounds were found scattered around two burials, and the remaining individual was found intact in a third burial. The pottery fragments, tools and tool fragments were found scattered among all three burials. The human remains and associated funerary objects are related to the Caddo Nation who settled the Red River Valley more than 1,200 years ago. The Caddo Nation remained a strong presence in this region well into the 18th century. The manner of interment is consistent with Caddo tradition, as are the decorative and construction techniques used in the pottery found in proximity to the grave sites. References to the complex now known as the Cabe Mounds date back to the latter part of the 19th century and were made by C.B. Moore, one of the first to identify and explore Caddo sites in East Texas. The site was acquired by the Archaeological Conservancy in 1985.

Officials of the Texarkana Museums System have determined that, pursuant to 25 U.S.C. 3001 (9-10), the human remains described above represent the physical remains of three individuals of Native American ancestry. Officials of the Texarkana Museums System also have determined that, pursuant to 25 U.S.C. 3001 (3)(A), the 141 objects described above are reasonably believed to have been placed with or near individual human remains at the time of death or later as part of the death rite or ceremony. Lastly, officials of the Texarkana Museums System have determined that, pursuant to 25 U.S.C. 3001 (2), there is a relationship of shared group identity that can be reasonably traced between the Native American human remains and associated funerary objects and the Caddo Nation of Oklahoma.

Representatives of any other Indian tribe that believes itself to be culturally affiliated with the human remains and associated funerary objects should contact J.A. Simmons, Texarkana Museums System, PO Box 2343, Texarkana, TX 75504, telephone (903) 793-4831, before April 24, 2009. Repatriation of the human remains and associated funerary objects to the Caddo Nation of Oklahoma may proceed after that date if no additional claimants come forward.

The Texarkana Museums System is responsible for notifying the Caddo Nation of Oklahoma that this notice has been published.

Dated: March 10, 2009
Sherry Hutt,
Manager, National NAGPRA Program.

[FR Doc. E9-6513 Filed 3-24-09; 8:45 am]

BILLING CODE 4312-50-S